DEPARTMENT OF ENERGY

Office of Arms Control and Nonproliferation

Proposed Subsequent Arrangement

AGENCY: Department of Energy.

ACTION: Subsequent arrangement.

SUMMARY: This notice is being issued under the authority of section 131 of the Atomic Energy Act of 1954, as amended (42 U.S.C. 2160). The Department is providing notice of a proposed “subsequent arrangement” under the Agreement for Cooperation in the Peaceful Uses of Nuclear Energy between the United States and the European Atomic Energy Community (EURATOM) and the Agreement for Cooperation Between the Government of the United States of America and the Swiss Federal Council Concerning Peaceful Uses of Nuclear Energy.

This subsequent arrangement concerns the retransfer of 54 fresh MTR fuel elements containing 16,195 g uranium, 15,018 g of which is U-235, from the Paul Scherrer Institut in Switzerland to the Euratom Supply Agency. The fuel elements will be sent to CERCA, France for refabrication and then utilization in the HFR at the Center Commun ole Reclierche, Netherlands. The expected date of shipment is September 2001. The material originally was exported to Switzerland pursuant to Nuclear Regulatory Commission Export License number XSNM01840.

In accordance with Section 131 of the Atomic Energy Act of 1954, as amended, we have determined that this subsequent arrangement will not be inimical to the common defense and security.

This subsequent arrangement will take effect no sooner than fifteen days after the date of publication of this notice.

Dated: January 29, 2001.
For the Department of Energy.
Trisha Dedik,
Director, International Policy and Analysis for Arms Control and Nonproliferation, Office of Defense Nuclear Nonproliferation.

[FR Doc. 01-2950 Filed 2-2-01; 8:45 am]

BILLING CODE 6450-01-P